DEPARTMENT OF LABOR

Employment and Training Administration

[TA-W-80,122; TA-W-80,122A]

Amended Certification Regarding Eligibility To Apply for Worker Adjustment Assistance

TA-W-80,122, Honeywell, Formerly Known as Honeywell International, Scanning and Mobility Division (AKA Hand Held Products, Inc.), Including All On-Site Leased Workers, Skaneateles Falls, New York.

TA-W-80,122A, Honeywell, Formerly Known as Honeywell International, Scanning and Mobility Division (AKA Hand Held Products, Inc.), Including All On-Site Leased Workers, Blackwood, New Jersey.

In accordance with Section 223 of the Trade Act of 1974, as amended (“Act”), 19 U.S.C. 2273, the Department of Labor issued a Certification of Eligibility to Apply for Worker Adjustment Assistance on May 25, 2011, applicable to workers of Honeywell International, Scanning and Mobility Division, Skaneateles Falls, New York. On June 26, 2012, the Department issued an amended certification reflecting that the Scanning and Mobility Division was known as Hand Held Products, Inc. At the request of a company official, the Department reviewed the certification for workers of the subject firm.

New information from the company shows that workers employed at the Blackwood, New Jersey location of Honeywell, Scanning and Mobility Division, operated in conjunctions with Honeywell, Scanning and Mobility Division, Skaneateles, New York.

The intent of the Department's certification is to include all workers of the subject firm at the Skaneateles, New York and Blackwood, New Jersey locations, who were adversely affected by an increase in imports following a shift abroad of bar scanners.

The amended notice applicable to TA-W-80,122 is hereby issued as follows:

All workers of Honeywell, formerly known as Honeywell International, Scanning and Mobility Division (AKA Hand Held Products, Inc.), including all on-site leased workers, Skaneateles Falls, New York (TA-W-80,122) and Honeywell, formerly known as Honeywell International, Scanning and Mobility Division (AKA Hand Held Products, Inc.), including all on-site leased workers, Blackwood, New Jersey (TA-W-80,122A), who became totally or partially separated from employment on or after September 23, 2010, through May 25, 2013, and all workers in the groups threatened with total or partial separation from employment on date of certification through two years from the date of certification, are eligible to apply for adjustment assistance under Chapter 2 of Title II of the Trade Act of 1074, as amended.

Signed at Washington, DC this 30th day of July, 2012.
Del Min Amy Chen,
Certifying Officer, Office of Trade Adjustment Assistance.

[FR Doc. 2012-19463 Filed 8-8-12; 8:45 am]

BILLING CODE 4510-FN-P